EQUAL EMPLOYMENT OPPORTUNITY COMMISSION

Notice: Sunshine Meeting

Date and Time: Wednesday, February 25, 2009, 10 a.m. Eastern Time.

Place: Commission Meeting Room on the First Floor of the EEOC Office Building, 131 “M” Street, NE., Washington, DC 20507.

Status: The meeting will be open to the public.

MATTERS TO BE CONSIDERED:

Open Session:

1. Announcement of Notation Votes, and

2. NPRM to Implement Title II of the Genetic Information Non-Discrimination Act of 2008.

Note: In accordance with the Sunshine Act, the meeting will be open to public observation of the Commission's deliberations and voting. (In addition to publishing notices on EEOC Commission meetings in the Federal Register, the Commission also provides a recorded announcement a full week in advance on future Commission sessions.) Please telephone (202) 663-7100 (voice) and (202) 663-4074 (TTY) at any time for information on these meetings. The EEOC provides sign language interpretation at Commission meetings for the hearing impaired. Requests for other reasonable accommodations may be made by using the voice and TTY numbers listed above.

FOR FURTHER INFORMATION CONTACT: Stephen Llewellyn, Executive Officer on (202) 663-4070.

Dated: This Notice Issued February 17, 2009.
Stephen Llewellyn,
Executive Officer Executive Secretariat.

[FR Doc. E9-3672 Filed 2-19-09; 8:45 am]

BILLING CODE 6570-01-P